DEPARTMENT OF COMMERCE

International Trade Administration

(A-533-810)

Stainless Steel Bar from India: Notice of Preliminary Results and Preliminary Partial Rescission of Antidumping Duty Administrative Review

AGENCY: Import Administration, International Trade Administration, Department of Commerce.

SUMMARY: The Department of Commerce is conducting an administrative review of the antidumping duty order on stainless steel bar from India. The period of review is February 1, 2004, through January 31, 2005. This review covers imports of stainless steel bar from two producers/exporters.

We preliminarily find that sales of the subject merchandise have been made below normal value. If these preliminary results are adopted in our final results, we will instruct U.S. Customs and Border Protection to assess antidumping duties. Interested parties are invited to comment on these preliminary results. We will issue the final results no later than 120 days from the date of publication of this notice.

EFFECTIVE DATE: March 7, 2006.

FOR FURTHER INFORMATION CONTACT: Scott Holland, AD/CVD Operations, Office 1, Import Administration, International Trade Administration, U.S. Department of Commerce, 14th Street and Constitution Avenue, NW, Washington DC 20230; telephone (202) 482-1279.

SUPPLEMENTARY INFORMATION:

Background

On February 21, 1995, the Department of Commerce (the “Department”) published in the Federal Register the antidumping duty order on stainless steel bar (“SSB”) from India. See Antidumping Duty Orders: Stainless Steel Bar form Brazil, India and Japan, 60 FR 9661 (February 21, 2005).

On February 1, 2005, the Department published a notice in the Federal Register providing an opportunity for interested parties to request an administrative review of the antidumping duty order on SSB from India for the period of review (“POR”), February 1, 2004, through January 31, 2005. See Antidumping or Countervailing Duty Order, Finding, or Suspended Investigation; Opportunity To Request Administrative Review, 70 FR 5136 (February 1, 2005). On February 22, 2005, we received a timely request for review from Shah Alloys, Ltd. (“Shah”).¹ On February 25, 2005, we received a timely request for review and revocation from Venus Wire Industries Pvt., Ltd. (“Venus”). On February 28, 2005, we received timely review requests from Ferro Alloys Corporation, Ltd. (“Facor”), Chandan Steel, Ltd. (“Chandan”), Isibars Ltd. (“Isibars”), Mukand Ltd. (“Mukand”), and the Viraj Group (“Viraj”).² On February 28, 2005, Carpenter Technology Corporation, Electralloy Corporation, and Crucible Specialty Metals Division, Crucible Materials Corporation (collectively, the “petitioners”) also requested an administrative review of Viraj.

¹ On February 28, 2005, the Department declined Shah's request for review because Shah explicitly stated in its request that it did not have any export sales to the United States during the period of review. See Letter from the Department to Mr. D.P.S. Bindra (Senior Vice President of Shah Alloys, Ltd.), dated February 28, 2005.

² We did not initiate with respect to Viraj because the order for this company was revoked on September 14, 2004. See Letter from the Department to counsel to Viraj, “Extension Requests,” dated April 19, 2005; see also Stainless Steel Bar From India; Final Results, Rescission of Antidumping Duty Administrative Review in Part, and Determination To Revoke in Part, 69 FR 55409 (Sept. 14, 2004); Initiation of Antidumping and Countervailing Duty Administrative Reviews and Requests for Revocation in Part, 70 FR 14643 (March 23, 2005).

On March 23, 2005, the Department initiated an administrative review of the antidumping duty order on SSB from India with respect to Facor, Chandan, Isibars, Mukand, and Venus (collectively, the “respondents”). See Initiation of Antidumping and Countervailing Duty Administrative Reviews and Requests for Revocation in Part, 70 FR 14643 (March 23, 2005).

On March 29, 2005, the Department issued antidumping duty questionnaires to the respondents. On April 18, 2005, Isibars, Mukand, and Venus, withdrew their requests for an administrative review. For further discussion, see the “Partial Rescission of Review” section of this notice, below.

On May 4, and May 31, 2005, we received responses to section A and sections B-D of the Department's antidumping duty questionnaire, respectively, from Facor. On June 9, 2005, and October 5, 2005, the Department issued supplemental questionnaires to Facor requesting additional information on Facor's U.S. sales process and date of sale. On June 16, 2005, and October 19, 2005, Facor filed its responses to the Department's supplemental questionnaires. On June 21, 2005, the petitioners requested that the Department conduct verifications of Facor and Chandan.

Based on Facor's submissions, the Department learned that Facor had no entries of the subject merchandise during the POR. To confirm that Facor made no entries of subject merchandise during the POR, the Department requested data from U.S. Customs and Border Protection (“CBP”) on July 26, 2005. CBP provided the Department with the requested data on September 8, 2005. See Memorandum to the File, “U.S. Customs and Border Protection Data,” dated September 26, 2005, which is on file in the Central Records Unit (“CRU”) in room B-099 of the main Department building. On November 22, 2005, the Department published in the Federal Register a notice of intent to rescind the antidumping duty administrative review with respect to Facor. See Stainless Steel Bar from India: Notice of Intent to Rescind Antidumping Duty Administrative Review of Ferro Alloys Corporation Limited, 70 FR 70582 (November 22, 2005).

In May 2005, we received responses to sections A, B, and C of the Department's antidumping duty questionnaire from Chandan. On June 13, 2005, in accordance with 19 CFR 351.301(d)(2)(ii), the petitioners made a timely allegation that Chandan's home market sales were made below the cost of production (“COP”). On September 6, 2005, we determined that the Department's application of total adverse facts available (“AFA”) to the sales made by Chandan in the most recently completed review provided the Department with reasonable grounds to believe or suspect that sales made in the current review were below the COP. See Memorandum to Susan Kuhbach, “Sales Below the Cost of Production for Chandan Steel, Ltd.,” dated September 6, 2005. On September 20, 2005, in accordance with section 773(b)(2)(A) of the Tariff Act of 1930, as amended (“the Act”), the Department initiated a sales below-cost investigation of Chandan's home market sales. Accordingly, we notified Chandan that it must respond to section D of the Department's antidumping duty questionnaire. See Letter from Julie H. Santoboni to Chandan Steel, Ltd., dated September 20, 2005. We did not receive a response to the Department's section D questionnaire from Chandan. For further discussion, see the “Application of Facts Available” section, below.

On September 23, 2005, the Department issued a supplemental questionnaire for sections A, B, and C to Chandan. We received a narrative response to the supplemental questionnaire on October 26, 2005. On October 27, 2005, Chandan submitted additional supporting documentation in response to the Department's supplemental questionnaire.

On October 18, 2005, the Department found that, because of the complexity of choosing the appropriate date of sale, and the late initiation of a cost investigation, it was not practicable to complete this review within the time period prescribed. Accordingly, we extended the time limit for completing the preliminary results of this review to no later than February 28, 2006, in accordance with section 751(a)(3)(A) of the Act. See Stainless Steel Bar from India; Extension of Time Limit for Preliminary Results in Antidumping Duty Administrative Review, 70 FR 60493 (October 18, 2005).

On November 4, 2005, the Department issued its second supplemental questionnaire, in which we requested Chandan clarify certain information reported in its May 10, 2005, section A response. On November 7, 2005, we sent a third supplemental questionnaire to Chandan requesting Chandan make certain revisions to its submitted U.S. sales listings. We received responses to these supplemental questionnaires on November 10, 2005. On November 14, 2005, the we issued a fourth supplemental questionnaire to Chandan for sections A, B, and C. We did not receive a response to this supplemental questionnaire from Chandan. For further discussion, see the “Application of Facts Available” section of this notice, below.

On November 23, 2005, the petitioners submitted comments on Chandan's failure to cooperate fully in the current administrative review. In those comments, the petitioners noted that Chandan: (1) Failed to provide a response to the Department's original section D questionnaire; (2) failed to timely respond to the Department's November 14, 2005, supplemental questionnaire; and (3) failed to substantiate that Chandan's U.S. prices are correct and that they correspond to the sale to the first unaffiliated customer in the United States. Accordingly, the petitioners argued that, due to these deficiencies, the Department should apply total AFA for these preliminary results.

Scope of the Order

Imports covered by the order are shipments of SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to these reviews is currently classifiable under subheadings 7222.11.00.05, 7222.11.00.50, 7222.19.00.05, 7222.19.00.50, 7222.20.00.05, 7222.20.00.45, 7222.20.00.75, and 7222.30.00.00 of the Harmonized Tariff Schedule of the United States (HTSUS). Although the HTSUS subheadings are provided for convenience and customs purposes, our written description of the scope of the order is dispositive.

On May 23, 2005, the Department issued a final scope ruling that SSB manufactured in the United Arab Emirates out of stainless steel wire rod from India is not subject to the scope of this proceeding. See Memorandum to Barbara E. Tillman, Antidumping Duty Orders on Stainless Steel Bar from India and Stainless Steel Wire Rod from India: Final Scope Ruling, dated May 23, 2005. See also Notice of Scope Rulings, 70 FR 55110 (September 20, 2005).

Period of Review

The POR is February 1, 2004, through January 31, 2005.

Partial Rescission of Review

Pursuant to 19 CFR 351.213(d)(1), the Department may rescind an administrative review in whole or in part, if interested parties that requested a review withdraw their requests within 90 days of the date of publication of notice of initiation of the requested review. As noted above in the “Background” section of this notice, Isibars, Mukand and Venus withdrew their requests for an administrative review on April 18, 2005. Because the petitioners did not request an administrative review for any of these companies and the requests to withdraw were made within the time limit specified under section 19 CFR 351.213(d)(1), we are rescinding this administrative review with respect to Isibars, Mukand and Venus.

With regard to Facor, pursuant to section 751(a)(2)(A) of the Act, when conducting an administrative review, the Department examines entries of subject merchandise. According to 19 CFR 351.213(d)(3), the Department will rescind an administrative review in whole or only with respect to a particular exporter or producer, if we conclude that, during the POR, there were no entries, exports, or sales of the subject merchandise, as the case may be. The Department has interpreted the statutory and regulatory language as requiring “that there be entries during the period of review upon which to assess antidumping duties.” See Granular Polytetrafluoroethylene Resin from Japan: Notice of Rescission of Antidumping Duty Administrative Review, 70 FR 44088, 44089 (August 1, 2005). Moreover, in Chia Far Industrial Factory Co., Ltd. v. United States, 343 F. Supp. 2d 1344, 1374 (CIT August 2, 2004), the Court affirmed the Department's rescission of a review for lack of entries, stating that “Commerce correctly decided to rescind Ta Chen's review based on the fact that there were no entries of the merchandise at issue during the POR, regardless of whether there were sales.”

As stated above in the “Background” section, in this administrative review, Facor reported no entries of subject merchandise to the U.S. market during the POR, a fact which the Department confirmed by conducting an inquiry with CBP. Even if the Department's practice were to review sales, as opposed to entries, Facor had no sales during the POR. In its questionnaire responses, Facor argued that the Department should use the purchase order date, as opposed to the invoice date, as the U.S. date of sale. However, the Department's rebuttable presumption is to use the invoice date as the date of sale. See 19 CFR 351.401(i). Facor failed to provide a compelling reason for the Department to deviate from its standard practice. According to information on the record, Facor issued no sales invoices to the United States during the POR. On November 22, 2005, we published a notice of intent to rescind this administrative review. We invited interested parties to comment. No comments were received. Accordingly, we are preliminarily rescinding the current administrative review with respect to Facor.

Application of Facts Available

Section 776(a)(2) of the Act provides that the Department will apply “facts otherwise available” if, inter alia, necessary information is not on the record or an interested party: (1) Withholds information that has been requested by the Department; (2) fails to provide such information within the deadlines established, or in the form or manner requested by the Department, subject to subsections (c)(1) and (e) of section 782 of the Act; (3) significantly impedes a proceeding; or (4) provides such information, but the information cannot be verified, the Department shall, subject to subsection 782(d) of the Act, use facts otherwise available in reaching the applicable determination.

As discussed in the “Background” section above, on September 20, 2005, the Department requested that Chandan respond to section D of the Department's antidumping duty questionnaire. The original deadline to file a response to section D of the questionnaire was October 12, 2005. During October and November 2005, Chandan requested, and the Department granted, numerous extensions to Chandan for the submission of the section D questionnaire response. Ultimately, Chandan's section D questionnaire response was due on November 14, 2005. However, the Department did not receive a response from Chandan, nor did Chandan request an additional extension. On November 22, 2005, the Department contacted Chandan's legal counsel with respect to Chandan's filing of the section D response. The Department was informed by Chandan's legal counsel that counsel had not received a response from Chandan, nor did counsel know whether Chandan would be filing a response. See Memorandum from Mark Todd, Office of Accounting, to the File, dated November 22, 2005. Further, the Department gave Chandan until November 21, 2005, to file a supplemental questionnaire response regarding sales information. However, no response was received. Moreover, Chandan did not ask for an extension of time nor did it indicate that a response would be submitted at a later date.

Despite the Department's attempts to obtain the information, pursuant to section 782(d) of the Act, Chandan failed to respond to certain questionnaires and has refused to participate fully in this administrative review. As such, Chandan has significantly impeded this proceeding. Thus, pursuant to sections 776(a)(2)(A) and (C) of the Act, the Department preliminarily finds that the use of total facts available is appropriate.

Adverse Facts Available

According to section 776(b) of the Act, if the Department finds that an interested party fails to cooperate by not acting to the best of its ability to comply with requests for information, the Department may use an inference that is adverse to the interests of that party in selecting from the facts otherwise available. See e.g., Notice of Final Results of Antidumping Duty Administrative Review: Stainless Steel Bar from India, 70 FR 54023, 54025-26 (September 13, 2005) (“2003/2004 Final Results”); see also Notice of Final Determination of Sales of Less Than Fair Value and Final Negative Critical Circumstances: Carbon and Certain Alloy Steel Wire Rod from Brazil, 67 FR 55792, 55794-96 (August 30, 2002). Adverse inferences are appropriate “to ensure that the party does not obtain a more favorable result by failing to cooperate than if it had cooperated fully.” See Statement of Administrative Action accompanying the Uruguay Round Agreements Act, H.R. Rep. No. 103-316, Vol. 1, at 870 (1994) (“SAA”). Furthermore, “affirmative evidence of bad faith on the part of a respondent is not required before the Department may make an adverse inference.” See Antidumping Duties; Countervailing Duties; Final Rule, 62 FR 27296, 27340 (May 19, 1997), and Nippon Steel Corp. v. United States, 337 F.3d 1373, 1382 (Fed. Cir. 2003) (“Nippon”). We preliminarily find that Chandan did not act to the best of its ability in this proceeding, within the meaning of section 776(b) of the Act. Chandan has participated in prior administrative reviews (see, e.g., 2003/2004 Final Results; and Stainless Steel Bar from India; Final Results, Rescission of Antidumping Duty Administrative Review in Part, and Determination To Revoke in Part, 69 FR 55409 (September 14, 2004) (“2002/2003 Final Results”)), and, therefore, should know that it is required to respond to the Department's questionnaire, including the section D questionnaire. In not responding to the Department's questionnaires, Chandan has failed to act to the best of its ability in complying with the Department's requests for information in this review. Therefore, an adverse inference is warranted. See Nippon 337 F.3d at 1382-83. We note that COP/constructed value (“CV”) data provided by a respondent in the section D questionnaire is vital to our dumping analysis, because: 1) it provides the basis for determining whether comparison market sales can be used to calculate normal value; and 2) in certain instances (e.g., when there are no comparison market sales made at prices above the COP), it is used as the basis of normal value itself. In cases involving a sales-below-cost investigation, as in this case, lack of COP/CV information renders a company's response so incomplete as to be unuseable. See e.g., Frozen Concentrated Orange Juice From Brazil; Final Results and Partial Rescission of Antidumping Duty Administrative Review, 64 FR 43650, 43655 (August 11, 1999); Certain Cut-to-Length Carbon Steel Plate from Mexico: Final Results of Antidumping Duty Administrative Review, 64 FR 76, 82-83 (January 4, 1999); Notice of Final Results and Partial Rescission of Antidumping Duty Administrative Review: Canned Pineapple Fruit From Thailand, 63 FR 43661, 43664 (August 14, 1998); and Certain Cut-to-Length Carbon Steel Plate From Sweden: Final Results of Antidumping Duty Administrative Review, 62 FR 18396, 18401 (April 15, 1997). Therefore, section 782(e) of the Act does not apply.

Accordingly, we preliminarily find that an adverse inference is warranted in selecting facts otherwise available. Section 776(b) of the Act further provides that the Department may use as AFA, information derived from: 1) The petition; 2) a final determination in the investigation; 3) any previous review; or 4) any other information placed on the record.

The Department's practice, when selecting an AFA rate from among the possible sources of information, has been to ensure that the margin is sufficiently adverse “as to effectuate the statutory purposes of the adverse facts available rule to induce respondents to provide the Department with complete and accurate information in a timely manner.” See e.g., Notice of Final Determination of Sales at Less Than Fair Value: Static Random Access Memory Semiconductors from Taiwan, 63 FR 8909, 8932 (February 23, 1998). Additionally, the Department's practice has been to assign the highest margin determined for any party in the less-than-fair-value (“LTFV”) investigation or in any administrative review of a specific order to respondents who have failed to cooperate with the Department. See, e.g., Heavy Forged Hand Tools, Finished or Unfinished, With or Without Handles, from the People's Republic of China: Final Results of Antidumping Duty Administrative Reviews and Final Rescission and Partial Rescission of Antidumping Duty Administrative Reviews, 70 FR 54897, 54898 (September 19, 2005).

In order to ensure that the margin is sufficiently adverse so as to induce Chandan's cooperation, we have preliminarily assigned a rate of 21.02 percent, which was the rate alleged in the petition and assigned in previous segments of this proceeding, and is the highest rate determined for any respondent in any segment of this proceeding. See Notice of Final Determination of Sales at Less Than Fair Value: Stainless Steel Bar from India, 59 FR 66915, 66921 (December 28, 1994) (“LTFV Final Determination”). The Department finds that this rate is sufficiently high as to effectuate the purpose of the facts available rule (i.e., we find that this rate is high enough to encourage participation in future segments of this proceeding in accordance with 776(b) of the Act). Furthermore, this rate was also assigned as AFA to Chandan in the 2002/2003 antidumping duty administrative review because Chandan provided incomplete and largely unresponsive replies to explicit instructions and numerous requests for information made by the Department. See 2002/2003 Final Results.

The Department recognizes that in the previous administrative review, Chandan was assigned a different AFA rate, that is, Chandan was assigned the highest calculated rate given to any respondent in any segment of this proceeding (i.e., 19.80 percent). See 2003/2004 Final Results. However, after reconsideration of the facts on the record in this proceeding and past Department practice, we find that the appropriate rate to assign Chandan as AFA is the rate of 21.02 percent.

Information from prior segments of the proceeding constitutes secondary information and section 776(c) of the Act provides that the Department shall, to the extent practicable, corroborate that secondary information from independent sources reasonably at its disposal. The Department's regulations provide that “corroborate” means that the Department will satisfy itself that the secondary information to be used has probative value. See 19 CFR 351.308(d) and SAA at 870. To the extent practicable, the Department will examine the reliability and relevance of the information to be used. Unlike other types of information, such as input costs or selling expenses, there are no independent sources from which the Department can derive dumping margins. The only source for dumping margins is administrative determinations. In a previous administrative review in this proceeding, the Department found that the petition rate was reliable. See Stainless Steel Bar From India; Final Results of Antidumping Duty Administrative Review, 68 FR 47543 (August 11, 2003) (“2001/2002 Final Results”).

With respect to the relevance aspect of corroboration, however, the Department will consider information reasonably at its disposal as to whether there are circumstances that would render a margin inappropriate. Where circumstances indicate that the selected margin is not appropriate as adverse facts available, the Department will disregard the margin and determine an appropriate margin. See, e.g., Fresh Cut Flowers from Mexico; Final Results of Antidumping Duty Administrative Review, 61 FR 6812, 6814 (Feb. 22, 1996) (where the Department disregarded the highest margin as adverse facts available because the margin was based on another company's uncharacteristic business expense resulting in an unusually high margin). Therefore, we also examined whether any information on the record would discredit the selected rate as reasonable facts available for Chandan. No such information exists. In particular, there is no information that might lead to a conclusion that a different rate would be more appropriate.

Accordingly, we have assigned Chandan, in this administrative review, the rate of 21.02 percent as total AFA. This is consistent with section 776(b) of the Act which states that adverse inferences may include reliance on information derived from the petition. Finally, we note that Chandan was previously assigned this rate for its failure to cooperate. See 2001/2002 Final Results and 2002/2003 Final Results. Furthermore, the Department has corroborated this rate in prior segments of this proceeding. See 2001/2002 Final Results; see also 2002/2003 Final Results. Because there are no calculated margins for any other respondents in this administrative review, we believe the 21.02 percent rate continues to have probative value and that there are no circumstances indicating that this margin is inappropriate as facts available. Therefore, we find that the 21.02 percent margin is corroborated to the greatest extent practicable in accordance with 776(c) of the Act.

Preliminary Results of the Review

For the firm listed below, we find that the following percentage margin exists for the period February 1, 2004, through January 31, 2005:

Exporter/Manufacturer | Margin
Chandan Steel, Ltd. | 21.02

Public Comment

Pursuant to 19 CFR 351.310(c), any interested party may request a hearing within 30 days of publication of this notice. Any hearing, if requested, will be held 42 days after the publication of this notice, or the first workday thereafter. Issues raised in the hearing will be limited to those raised in the case and rebuttal briefs. Pursuant to 19 CFR 351.309(c), interested parties may submit case briefs within 30 days of the date of publication of this notice. Rebuttal briefs, which must be limited to issues raised in the case briefs, may be filed not later than 35 days after the date of publication of this notice. See 19 CFR 351.309(d). Parties who submit case briefs or rebuttal briefs in this proceeding are requested to submit with each argument: 1) a statement of the issue; and 2) a brief summary of the argument with an electronic version included.

Assessment

Pursuant to section 351.212(b) of the Department's regulations, the Department calculates an assessment rate for each importer or customer of the subject merchandise. The Department will issue appropriate assessment instructions directly to CBP within 15 days of publication of the final results of this review. Upon issuance of the final results of this administrative review, if any importer- or customer-specific assessment rates calculated in the final results are above de minimis (i.e., at or above 0.5 percent), see 19 CFR 351.106(c), the Department will instruct CBP to assess antidumping duties on appropriate entries by applying the assessment rate to the entered value of the merchandise. For those companies for which this review is rescinded, antidumping duties shall be assessed at rates equal to the cash deposit of estimated antidumping duties required at the time of entry, or withdrawal from warehouse, for consumption, in accordance with 19 CFR 351.212(c)(1)(i).

In accordance with the Department's clarification of its assessment policy (see Antidumping and Countervailing Duty Proceedings: Assessment of Antidumping Duties, 68 FR 23954 (May 6, 2003)), in the event any entries were made during the period of review through intermediaries under the CBP case number for Facor, the Department will instruct CBP to liquidate such entries at the all-others rate in effect on the date of entry.

Cash Deposit Requirements

The following deposit requirements will be effective upon completion of the final results of this administrative review for all shipments of SSB from India entered, or withdrawn from warehouse, for consumption on or after the publication date of the final results of this administrative review, as provided by section 751(a)(1) of the Act: 1) The cash deposit rate for the reviewed company will be the rate established in the final results of this administrative review (except no cash deposit will be required if its weighted-average margin is de minimis, i.e., less than 0.5 percent); 2) for merchandise exported by manufacturers or exporters not covered in this review but covered in the original LTFV investigation or a previous review, the cash deposit rate will continue to be the most recent rate published in the final determination or final results for which the manufacturer or exporter received an individual rate; 3) if the exporter is not a firm covered in this review, the previous review, or the original investigation, but the manufacturer is, the cash deposit rate will be the rate established for the most recent period for the manufacturer of the merchandise; and 4) if neither the exporter nor the manufacturer is a firm covered in this or any previous reviews, the cash deposit rate will be 12.45 percent, the “all others” rate established in the LTFV investigation. See LTFV Final Determination.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results of review in accordance with sections 751(a)(1) and 777(i)(1) of the Act.

Dated: February 28, 2006.
David M. Spooner,
Assistant Secretary for Import Administration.

[FR Doc. E6-3171 Filed 3-6-06; 8:45 am]

BILLING CODE 3510-DS-S